FEDERAL MARITIME COMMISSION

[Docket No. 07-05]

K.E.I. Enterprise d/b/a KEI Logix v. Greenwest Activewear, Inc.; Notice of Filing of Complaint and Assignment

Notice is given that a complaint has been filed with the Federal Maritime Commission (“Commission”) by K.E.I. Enterprise d/b/a KEI Logix. Complainant asserts that it is a corporation formed and existing under the laws of the State of California and is licensed by the Commission as a Non-Vessel-Operating Common Carrier. Complainant alleges that Respondent, Greenwest Activewear, Inc., is an exporter of fabric and other goods that has its principal place of business in California. Complainant also alleges that Respondent's place of incorporation is unknown.

Complainant asserts that it transported fabric from the United States to Guatemala on behalf of Respondent on an ongoing basis during 2006. Complainant contends that Respondent refused to pay freight due on other shipments as a result of Complainant's denial to fulfill a claim filed by Respondent for cargo stolen while in transit by an inland carrier in Guatemala. Accordingly, Complainant refused to release these other shipments. Complainant claims that a compromise was reached whereby Respondent agreed to pay Complainant freight due in the amount of $101,019.08, and Complainant would release all of Respondent's cargo. Complainant avers that, pursuant to the compromise, on May 16, 2007, Respondent delivered three postdated checks totaling $101,019.08, and Complainant subsequently released Respondent's cargo on that same day. On May 17, 2007, Complainant asserts that it was informed by Respondent's bank that Respondent had placed a stop payment order on the postdated checks totaling $101,019.08.

Complainant contends that Respondent violated of the Shipping Act of 1984 (“the Shipping Act”) by inducing Complainant to relinquish the cargo and lose its possessory maritime lien when it purportedly made payment of freight by postdated checks, knowing that it would stop payment on such checks once Complainant released the cargo. Complainant asserts that Respondent knowingly and willfully, by means of unjust or unfair device, obtained ocean transportation for property at less than the rates or charges that Complainant would otherwise apply. 46 U.S.C. 41102(a).

Complainant asserts that it has been injured and damaged in the sum of $108,019.08. Complainant requests that the Commission require Respondent to: (1) Answer the charges in the subject complaint; (2) cease and desist from the aforesaid violation of the Shipping Act; and (3) pay to Complainant by way of reparations the sum of $108,019.08 with interest and attorney's fees and any other sums as the Commission determines to be proper under the Shipping Act. 46 U.S.C. 41305(b). Additionally, Complainant requests that the Commission issue further order(s) as it determines to be proper in the premises, and that the hearing be in Los Angeles, California.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by June 6, 2008, and the final decision of the Commission shall be issued by October 6, 2008.

Karen V. Gregory,
Assistant Secretary.

[FR Doc. E7-11402 Filed 6-12-07; 8:45 am]

BILLING CODE 6730-01-P